DEPARTMENT OF HEALTH AND HUMAN SERVICES

Centers for Disease Control and Prevention

Meeting of the CDC/HRSA Advisory Committee on HIV, Viral Hepatitis and STD Prevention and Treatment

AGENCY: Centers for Disease Control and Prevention (CDC), Department of Health and Human Services (HHS).

ACTION: Notice of meeting.

SUMMARY: In accordance with the Federal Advisory Committee Act, the Centers for Disease Control and Prevention (CDC) and the Health Resources and Services Administration (HRSA) announce the following meeting of the CDC/HRSA Advisory Committee on HIV, Viral Hepatitis and STD Prevention and Treatment (CHAC). This meeting is open to the public, limited only by the number of audio and web conference lines (1,000 lines are available). Time will be available for public comment (registration is required to provide oral comment).

DATES: The meeting will be held on April 9 and 10, 2024, from 9 a.m. to 4:30 p.m., EDT.

Written comments must be submitted by April 19, 2024. Registration to make oral comments must be submitted by March 26, 2024.

ADDRESSES: The telephone access number is 1-669-254-5252, Webinar ID: 160 972 1316, and the Passcode is 08044152. The web conference access is https://cdc.zoomgov.com/j/1609721316?pwd=cUVqdUp5dlBNaDhhWERrcWdXUk9yUT09, and the Passcode is dx%cJGp3. The number of available audio and web conference lines is 1,000.

FOR FURTHER INFORMATION CONTACT: Marah Condit, M.S., Committee Management Lead, Office of Policy, Planning, and Partnerships, National Center for HIV, Viral Hepatitis, STD, and TB Prevention, Centers for Disease Control and Prevention, 1600 Clifton Road NE, Mailstop US8-6, Atlanta, Georgia 30329-4027. Telephone: (404) 639-3423; Email: nchhstppolicy@cdc.gov.

SUPPLEMENTARY INFORMATION:

Purpose: The CDC/HRSA Advisory Committee on HIV, Viral Hepatitis and STD Prevention and Treatment (CHAC) is charged with advising the Secretary of Health and Human Services; the Director, Centers for Disease Control and Prevention (CDC); and the Administrator, Health Resources and Services Administration (HRSA), regarding objectives, strategies, policies, and priorities for HIV, viral hepatitis, and STD prevention and treatment efforts including (1) surveillance; (2) epidemiologic, behavioral, health services, and laboratory research; (3) identification of policy issues and opportunities related to prevention and treatment including but not limited to professional education, healthcare delivery, social determinants of health, research, and prevention and treatment services; (4) strategic issues influencing the ability of CDC and HRSA to fulfill their missions; (5) development and implementation of federal programs focused on prevention and treatment; and (6) provide support to the agencies in their response to emerging health needs.

Matters to be Considered: The agenda will include discussions on (1) syndemic approach to testing, (2) using prescription data to support the HIV care continuum, (3) HIV and aging, (4) an update on DoxyPEP, (5) advancing diagnosis of hepatitis C virus infection, (6) an update from the Long-Acting Injectable Workgroup, (7) an update from the Community Partnerships Workgroup, (8) an update from the Workforce Workgroup, and (9) an update from the Presidential Advisory Council on HIV/AIDS. Agenda items are subject to change as priorities dictate.

Public Participation

Written Public Comment: Members of the public are welcome to submit written comments in advance of the meeting. Written comments must be submitted by emailing nchhstppolicy@cdc.gov with subject line “Spring CHAC Public Comment Registration” by April 19, 2024.

Oral Public Comment: Individuals who would like to make an oral comment during the public comment period must register by emailing nchhstppolicy@cdc.gov with subject line “Spring CHAC Public Comment Registration” by March 26, 2024. The public comment period is on April 9, 2024, at 3:45 p.m., EDT.

The Director, Office of Strategic Business Initiatives, Office of the Chief Operating Officer, Centers for Disease Control and Prevention, has been delegated the authority to sign Federal Register notices pertaining to announcements of meetings and other committee management activities, for both the Centers for Disease Control and Prevention and the Agency for Toxic Substances and Disease Registry.

Kalwant Smagh,
Director, Office of Strategic Business Initiatives, Office of the Chief Operating Officer, Centers for Disease Control and Prevention.

[FR Doc. 2024-04197 Filed 2-28-24; 8:45 am]

BILLING CODE 4163-18-P